DEPARTMENT OF HEALTH AND HUMAN SERVICES

Administration for Children and Families

Submission for OMB Review; Comment Request

Title: Formative Data Collections for Policy Research.

OMB No.: 0970-0356.

Description: The Office of Planning, Research and Evaluation (OPRE), in the Administration for Children and Families (ACF) at the U.S. Department of Health and Human Services (HHS) intends to request approval from the Office of Management and Budget (OMB) for renewal of a generic clearance to allow OPRE to conduct a variety of formative data collections with more than nine respondents. The data collections will inform future research and evaluation but will not be highly systematic nor intended to be statistically representative.

OPRE conducts research on a wide variety of policy and programmatic areas. OPRE's research serves to provide further understanding of current programs and service populations, explore options for program improvement, and assess alternative policy and program designs. OPRE uses this formative data collection generic clearance to employ a variety of information collection techniques, including semi-structured discussions, focus groups and interviews. These activities inform the development of OPRE research and evaluation (including technical assistance), help OPRE maintain a research agenda that is rigorous and relevant, and ensure that research products and are as current as possible.

Following standard OMB requirements, OPRE will submit a change request for each individual data collection activity under this generic clearance. Each request will include the individual instrument(s), a justification specific to the individual information collection, and any supplementary documents. OPRE requests OMB review within 10 days of receiving each change request.

Respondents: Researchers, practitioners, TA providers, service providers and potential participants throughout the fields pertaining to ACF research.

Burden Estimates
Instrument | Total number of respondents | Number of responses per respondent | Average burden hours per response | Total burden hours
Semi-Structured Discussion and Information-Gathering Protocols | 1,600 | 1 | 1 | 1,600

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports Clearance Officer.

[FR Doc. 2015-00179 Filed 1-8-15; 8:45 am]

BILLING CODE 4184-79-P